DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: David Yang at 240-695-6406 or yangp3@mail.nih.gov. Licensing information may be obtained by communicating with the Technology Transfer and Intellectual Property Office, National Institute of Allergy and Infectious Diseases, 5601 Fishers Lane, Rockville, MD 20852; tel. 301-496-2644. A signed Confidential Disclosure Agreement will be required to receive copies of unpublished information related to the invention.

SUPPLEMENTARY INFORMATION: Technology description follows:

Pre-Biotic Formulation of Topical Chemicals for Use on Human Skin

Description of Technology: Atopic dermatitis (AD) is a common, recurrent, chronic inflammatory skin disease that is a cause of considerable economic and social burden. It is one of the most prevalent skin disorders, affecting ~25% of children in developed and developing countries and is expected to continue to escalate. This increased rate of incidence has changed the focus of research on AD toward epidemiology, prevention, and treatment.

Scientists at NIAID have developed novel topical formulations that promote the growth of health-associated strains of commensal bacteria and inhibit disease-associated bacteria, thereby enhancing skin health.

This technology is available for licensing for commercial development in accordance with 35 U.S.C. 209 and 37 CFR part 404, as well as for further development and evaluation under a research collaboration.

Potential Commercial Applications:

• Over-the-counter formulations—this invention could be readily incorporated into popular body lotions or other skincare products to make “enhanced”/“microbiome-friendly” versions that promote the growth of health associated bacterial

Competitive Advantages:

• Benign safety profile with multiple mechanisms of action

• Proven enhancement of beneficial microbiota

• Can be readily incorporated into existing products

Development Stage:

• Pre-clinical

Inventors: Carlos Castillo and Ian Myles, MD, MPH, both of NIAID.

Publications: Castillo, Carlos, et al. “Assessing the effects of common topical exposures on skin bacteria associated with atopic dermatitis”, Skin Health and Disease, 2021.05.07.

Intellectual Property: HHS Reference No. E-100-2021-0; US provisional application No. 63/175,368 filed on April 15, 2021.

Licensing Contact: To license this technology, please contact David Yang at 240-695-6406 or yangp3@mail.nih.gov and reference E-100-2021-0.

Collaborative Research Opportunity: The National Institute of Allergy and Infectious Diseases is seeking statements of capability or interest from parties interested in collaborative research to further develop, evaluate or commercialize this technology. For collaboration opportunities, please contact David Yang at 240-695-6406 or yangp3@mail.nih.gov.

Dated: June 24, 2021.
Surekha Vathyam,
Deputy Director, Technology Transfer and Intellectual Property Office, National Institute of Allergy and Infectious Diseases.

[FR Doc. 2021-14129 Filed 6-30-21; 8:45 am]

BILLING CODE 4140-01-P